GENERAL SERVICES ADMINISTRATION

[Notice-MG-2015-05; Docket No. 2015-0002; Sequence No. 5]

Office of Federal High-Performance Green Buildings; Green Building Advisory Committee; Notification of Upcoming Public Advisory Committee Meeting

AGENCY: Office of Federal High-Performance Green Buildings, Office of Government-Wide Policy, General Services Administration (GSA).

ACTION: Meeting notice.

SUMMARY: Notice of this meeting is being provided according to the requirements of the Federal Advisory Committee Act, 5 U.S.C. App. 10(a)(2). This notice provides the agenda and schedule for the October 28, 2015 meeting of the Green Building Advisory Committee (the Committee). The meeting is open to the public and the site is accessible to individuals with disabilities. Interested individuals must register to attend as instructed below under Supplementary Information.

DATES: Meeting date: The meeting will be held on Wednesday, October 28, 2015, starting at 9 a.m. Eastern Daylight Time, and ending no later than 4 p.m., (EDT).

FOR FURTHER INFORMATION CONTACT: Mr. Ken Sandler, Designated Federal Officer, Office of Federal High-Performance Green Buildings, Office of Government-wide Policy, General Services Administration, 1800 F Street NW., Washington, DC 20405, telephone 202-219-1121 (note: this is not a toll-free number). Additional information about the Committee, including meeting materials, will be available on-line at http://www.gsa.gov/gbac.

SUPPLEMENTARY INFORMATION:

Procedures for Attendance and Public Comment: Contact Mr. Ken Sandler at ken.sandler@gsa.gov to register to attend the meeting. To attend the meeting, submit your full name, organization, email address, and phone number. Requests to attend the October 28, 2015 meeting must be received by 5:00 p.m. (EDT), on Monday, October 19, 2015.

Contact Ken Sandler at ken.sandler@gsa.gov to register to comment during the October 28, 2015 meeting public comment period. Registered speakers/organizations will be allowed a maximum of 5 minutes each and will need to provide written copies of their presentations. Requests to comment at the meeting must be received by 5:00 p.m., (EDT) on Monday, October 19, 2015. Written comments also may be provided to Mr. Sandler at ken.sandler@gsa.gov by the same deadline.

Background: The Administrator of the U.S. General Services Administration established the Committee on June 20, 2011 (Federal Register/Vol. 76, No. 118) pursuant to Section 494 of the Energy Independence and Security Act of 2007 (EISA, 42 U.S.C. 17123). Under this authority, the Committee advises GSA on the rapid transformation of the Federal building portfolio to sustainable technologies and practices. The Committee reviews strategic plans, products and activities of the Office of Federal High-Performance Green Buildings and provides advice regarding how the Office can accomplish its mission most effectively.

October 28, 2015 Meeting Agenda:

• Welcome, Introductions, & Plans for Today

• Energy Use Index: Task Group Report & Discussion

• Portfolio Prioritization: Task Group Report & Discussion

• Working Lunch (with Presenter)

• Updates on Committee Proposals: Net Zero Energy, Social Cost of Carbon

• New Topics Proposed by Committee Members

• Public Comment Period

• Closing Comments

• Adjourn

Detailed agendas, background information and updates for the meeting will be posted on GSA's Web site at http://www.gsa.gov/gbac.

Meeting Access: The Committee will convene its October 28, 2015 meeting at the General Services Administration building, Room 6159, 1800 F Street NW., Washington, DC 20405. The site is accessible to individuals with disabilities.

Dated: September 21, 2015.
Kevin Kampschroer,
Federal Director, Office of Federal High-Performance Green Buildings, General Services Administration.

[FR Doc. 2015-24867 Filed 9-29-15; 8:45 am]

BILLING CODE 6820-14-P